DEPARTMENT OF THE INTERIOR

National Park Service

[NPS-WASO-NAGPRA-15829; PPWOCRADN0-PCU00RP14.R50000]

Notice of Intent To Repatriate Cultural Items: Phoebe A. Hearst Museum of Anthropology, University of California, Berkeley, Berkeley, CA

AGENCY: National Park Service, Interior.

ACTION: Notice.

SUMMARY: The Phoebe A. Hearst Museum of Anthropology, University of California, Berkeley, in consultation with the appropriate Indian tribes or Native Hawaiian organizations, has determined that the cultural item listed in this notice meets the definition of cultural item under 25 U.S.C. 3001. The Phoebe A. Hearst Museum of Anthropology has right of possession to this item, but chooses to waive it in this case. Lineal descendants or representatives of any Indian tribe or Native Hawaiian organization not identified in this notice that wish to claim this cultural item should submit a written request to the Phoebe A. Hearst Museum of Anthropology, University of California, Berkeley, Berkeley, CA. If no additional claimants come forward, repatriation of the cultural item to the lineal descendants, Indian tribes, or Native Hawaiian organizations stated in this notice may proceed.

DATES: Lineal descendants or representatives of any Indian tribe or Native Hawaiian organization not identified in this notice that wish to claim this cultural item should submit a written request with information in support of the claim to the Phoebe A. Hearst Museum of Anthropology, University of California, Berkeley, at the address in this notice by July 24, 2014.

ADDRESSES: Mr. Jordan Jacobs, Head of Cultural Policy, Phoebe A. Hearst Museum of Anthropology, 103 Kroeber Hall, University of California, Berkeley, Berkeley, CA 94720-3712, telephone (510) 643-8230, email j.jacobs@berkeley.edu.

SUPPLEMENTARY INFORMATION: Notice is here given in accordance with the Native American Graves Protection and Repatriation Act (NAGPRA), 25 U.S.C. 3005, of the intent to repatriate an item in the possession of the Phoebe A. Hearst Museum of Anthropology, University of California, Berkeley, Berkeley, CA, that meets the definition of cultural item under 25 U.S.C. 3001.

This notice is published as part of the National Park Service's administrative responsibilities under NAGPRA, 25 U.S.C. 3003(d)(3). The determinations in this notice are the sole responsibility of the museum, institution, or Federal agency that has control of the Native American cultural item. The National Park Service is not responsible for the determinations in this notice.

History and Description of the Cultural Item

The one cultural item is a nearly complete wolf skin. The head and lower appendages are stuffed with straw, and the mouth and eyes are stitched shut with sinew. Flicker feathers are attached to the mouth by a tassel of white cotton string, and woodpecker scalps cover each eye. The cultural item was purchased for the museum, on behalf of Phoebe A. Hearst, by Alfred Kroeber in 1902. Dr. Kroeber purchased the item from Alexander Brizard, a local trader in the Klamath River area of Humboldt County, CA. The Museum has right of possession to this item, but chooses to waive it in this case. Evidence presented by the tribe and ethnographic sources suggest that the wolf skin was associated with the Karuk Pikiavish (World Renewal Ceremony), and is used in the component of that ceremony known as the White Deerskin Dance.

The cultural affiliation of the cultural item is to the Karuk Tribe (previously listed as the Karuk Tribe of California), as indicated by museum records and by consultation evidence presented by the tribe. Museum records prepared at the time of original acquisition indicate that the cultural item is “Karok.”

Determinations Made By the Phoebe A. Hearst Museum of Anthropology at the University of California

Officials of the Phoebe A. Hearst Museum of Anthropology have determined that:

• Pursuant to 25 U.S.C. 3001, the one item described above meets the definition of cultural item and is subject to repatriation under NAGPRA.

• Pursuant to 25 U.S.C. 3001(2), there is a relationship of shared group identity that can be reasonably traced between the wolf skin and the Karuk Tribe (previously listed as the Karuk Tribe of California).

Additional Requestors and Disposition

Lineal descendants or representatives of any other Indian tribe or Native Hawaiian organization not identified in this notice that wish to claim this cultural item should submit a written request with information in support of the claim to Mr. Jordan Jacobs, Head of Cultural Policy, Phoebe A. Hearst Museum of Anthropology, 103 Kroeber Hall, University of California, Berkeley, Berkeley, CA 94720-371, telephone (510) 643-8230, email j.jacobs@berkeley.edu, by July 24, 2014. After that date, if no additional claimants have come forward, repatriation of the cultural item to the Karuk Tribe (previously listed as the Karuk Tribe of California) may proceed.

The Phoebe A. Hearst Museum of Anthropology is responsible for notifying the the Karuk Tribe (previously listed as the Karuk Tribe of California) that this notice has been published.

Dated: May 19, 2014.
Sherry Hutt,
Manager, National NAGPRA Program.

[FR Doc. 2014-14746 Filed 6-23-14; 8:45 am]

BILLING CODE 4312-50-P